DEPARTMENT OF DEFENSE

Department of the Army; Corps of Engineers

Intent to Prepare a Supplemental Environmental Impact Statement for the Lower Mud River Watershed Project, Milton, Cabell County, WV

AGENCY: Department of the Army, U.S. Army Corps of Engineers, DoD.

ACTION: Notice of intent.

SUMMARY: Pursuant to the National Environmental Policy Act (NEPA), the U.S. Army Corps of Engineers (Corps), Huntington District will prepare a Supplemental Environmental Impact Statement (SEIS). The SEIS will evaluate potential impacts to the natural, physical, and human environment as a result of the proposed flood damage reduction measures for the area at the City of Milton, Cabell County, West Virginia (Lower Mud River Project). The Corps is soliciting public concerns/issues to be evaluated during the study process.

ADDRESSES: Send written comments and suggestions concerning this proposed project to S. Michael Worley PM-PD, U.S. Army Corps of Engineers, Huntington District, 502 Eighth Street, Huntington, WV 25701-2070. Telephone: (304) 529-5712. Electronic mail: Stephen.M.Worley@Lrh01.usace.army.mil. Requests to be placed on the mailing list should also be sent to this address.

FOR FURTHER INFORMATION CONTACT: Mr. Louis E. Aspey PM-P, U.S. Army Corps of Engineers, Huntington District, 502 Eighth Street, Huntington, WV, 25701-2070. Telephone: (304) 528-7446. Electronic mail: louisa@Lrh01.usace.army.mil.

SUPPLEMENTARY INFORMATION: 1. Authority: The proposed project is authorized under Section 580 of the Water Resources Development Act (WRDA) of 1996, which provides the Corps authority “* * * to conduct a limited reevaluation of the watershed plan and environmental impact statement prepared for the Lower Mud River, Milton, W.V., by the Natural Resources Conservation Service, pursuant to the Watershed Protection and Flood Prevention Act (16 U.S.C. 1001 et seq.) and may carry out the project,” and Section 340 of the WRDA of 2000, which reads: “Modifies Lower Mud River project at Milton authority (Sec 580 of WRDA of 1996) to direct the COE to construct the project as selected in the COE reevaluation report.”

2. Background: Under authority of the Watershed Protection and Flood Prevention Act (Pub. L. 83-566), the Natural Resources Conservation Service (NRCS) began an investigation of land and water resource problems, including flooding, in the Lower Mud River watershed in 1972. This early investigation culminated with completion of the Lower Mud River Watershed Plan and Environmental Impact Statement (EIS) in May 1993, in which a channel modification project on the Mud River in the vicinity of Milton was recommended. Section 580 of WRDA 1996 provided the Corps authority to re-evaluate that study and construct a project.

Alternatives being initially considered include the NRCS recommended plan (channel modification); four levee alternatives; a diversion alternative; non-structural alternatives; and the no action. The levee alternatives include a levee providing low-level of protection, two levees that would provide protection from 100-year floods, and a levee that would protect Milton to a 500-year flood level. Alternatives to be evaluated in detail in the SEIS will be selected from the those described above.

3. Public Participation: The Corps invites full public participation to promote open communication and better decision-making. All persons and organizations that have an interest in the Lower Mud River flooding problems as they affect the community of Milton, West Virginia and the environment are urged to participate in this NEPA environmental analysis process. Assistance will be provided upon request to anyone having difficulty with learning how to participate.

Public comments are welcomed anytime throughout the NEPA process. Formal opportunities for public participation include: (1) Public meetings to be held near the community of Milton; (2) Anytime during the NEPA process via mail, telephone or e-mail; (3) During Review and Comment on the Draft EIS—approximately January 2003; and, (4) Review of the Final EIS-Spring 2003. Schedules and locations will be announced in local news media. Interested parties should submit contact information to be included on the mailing list for public distribution of meeting announcements and documents (See ADDRESSES).

Luz D. Ortiz,
Army Federal Register Liaison Officer.

[FR Doc. 02-20650 Filed 8-13-02; 8:45 am]

BILLING CODE 3710-GM-M